DEPARTMENT OF DEFENSE

Department of the Army

Notice of Availability of the Draft Environmental Impact Statement (DEIS) in Support of New Facilities for the U.S. Army Medical Research Institute of Infectious Diseases (USAMRIID), Fort Detrick, MD

AGENCY: U.S. Army Medical Research and Materiel Command, Department of the Army, DoD.

ACTION: Notice of availability (NOA).

SUMMARY: The U.S. Army announces the availability of DEIS which evaluates the potential environmental impacts of the construction and operation of new USAMRIID facilities and the decommissioning and demolition and/or re-use of existing USAMRIID facilities at Fort Detrick, Maryland.

DATES: The public comment period for the DEIS will end 45 days after publication of this NOA in the Federal Register by the U.S. Environmental Protection Agency.

FOR FURTHER INFORMATION CONTACT: Caree Vander Linden, USAMRIID Public Affairs, 1425 Porter Street, Fort Detrick, MD 21702-5011; telephone: (301) 619-2285; fax: (301) 619-4625, or through the public USAMRIID EIS Web site at http://www.usamriid.army.mil/eis.

SUPPLEMENTARY INFORMATION: The Proposed Action and subject of the EIS is the construction and operation of new USAMRIID facilities and the decommissioning and demolition and/or re-use of existing USAMRIID facilities at Fort Detrick, Maryland.

The proposed new USAMRIID facilities will provide biocontainment laboratory space, animal facilities, and administrative offices, as well as operational and administrative support facilities. These new facilities will be located adjacent to the existing USAMRIID facilities within the National Interagency Biodefense Campus on Area A of Fort Detrick and near the biomedical research facilities of mission partners, including the Agricultural Research Service Foreign Disease-Weed Research Unit, Department of Agriculture; the National Institute of Allergy and Infectious Diseases' Integrated Research Facility, Department of Health and Human Services; and the National Biodefense Analysis and Countermeasures Center, Department of Homeland Security. The USAMRIID facilities on Area A will be decommissioned and either demolished and/or re-used following occupancy of the new USAMRIID facilities.

The construction will occur in two stages. Stage 1 will provide approximately 700,000 gross square feet (gsf) of new building space for the replacement of outdated and compressed existing facilities in order to sustain the current mission and to expand medical test and evaluation (T&E) capacity in support of immediate Department of Defense (DoD) and national demand. Stage 2 will encompass approximately 400,000 gsf of new building space for the balance of USAMRIID's expanded mission and for additional capacity to meet intensified national requirements for medical T&E in support of biodefense research as well as to accommodate increased collaborative efforts among USAMRIID's mission partners. In addition, approximately 200,000 gsf of the existing USAMRIID facilities may be renovated and re-used for laboratory or non-laboratory use, to be determined by evolving biodefense requirements.

The significant issues analyzed in the DEIS included safety of laboratory operations and demolition of the existing biocontainment laboratories; public health and safety; handling, collection, treatment, and disposal of research wastes; analysis of other risks; and pollution prevention.

Three alternatives were considered: Construction and Operation of New USAMRIID Facilities and Decommissioning and Demolition of the Existing USAMRIID Facilities on Area A of Fort Detrick, Maryland (Alternative I), Construction and Operation of New USAMRIID Facilities and Decommissioning and Partial Demolition of the Existing USAMRIID Facilities and Re-Use of the Remaining Facilities on Area A of Fort Detrick, Maryland (Alternative II), and the No Action Alternative, under which the proposed new USAMRIID facilities would not be built and operated and the existing USAMRIID facilities would not be decommissioned and demolished and/or re-used.

The U.S. Army Medical Research and Materiel Command and the U.S. Army Garrison of Fort Detrick will hold a public hearing to receive comments on the DEIS on Wednesday, August 30, 2006 from 7 p.m. to 9 p.m. at the Governor Thomas Johnson High School, 1501 N. Market St., Frederick, MD 21701.

Dated: August 3, 2006.
Addison D. Davis, IV,
Deputy Assistant Secretary of the Army, (Environment, Safety and Occupational Health), OASA(I&E).

[FR Doc. 06-6791 Filed 8-8-06; 8:45 am]

BILLING CODE 3710-08-M